DEPARTMENT OF STATE

[Public Notice 5416]

Culturally Significant Objects Imported for Exhibition Determinations: “Picasso and American Art”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that an object to be included in the exhibition “Picasso and American Art,” imported from abroad for temporary exhibition within the United States, is of cultural significance. The object is imported pursuant to a loan agreement with the foreign owner or custodian. I also determine that the exhibition or display of the exhibit object at the Whitney Museum of American Art, New York, New York, from on or about September 28, 2006, until on or about January 28, 2007, the San Francisco Museum of Modern Art, San Francisco, California, from on or about February 25, 2007, until on or about May 28, 2007, the Walker Art Center, Minneapolis, Minnesota, from on or about June 17, 2007, until on or about September 9, 2007, and at possible additional venues yet to be determined, is in the national interest. Public Notice of these Determinations is ordered to be published in the Federal Register.

FOR FURTHER INFORMATION CONTACT: For further information, including a list of the exhibit object, contact Julianne Simpson, Attorney-Adviser, Office of the Legal Adviser, U.S. Department of State (telephone: 202/453-8049). The address is U.S. Department of State, SA-44, 301 4th Street, SW., Room 700, Washington, DC 20547-0001.

Dated: May 16, 2006.
C. Miller Crouch,
Principal Deputy Assistant Secretary for Educational and Cultural Affairs, Department of State.

[FR Doc. E6-7772 Filed 5-19-06; 8:45 am]

BILLING CODE 4710-05-P